Title 3—

The President

Proclamation 8262 of May 29, 2008

Caribbean-American Heritage Month, 2008

By the President of the United States of America

A Proclamation

Caribbean-American Heritage Month is an opportunity to show our appreciation for the many ways Caribbean Americans have contributed to our country.

Caribbean Americans have helped to shape our national fabric with their vibrant traditions and their unique history. They have brightened our lives with the spirit and vitality of their culture. Through strong leadership and pride in their heritage, they have enriched America. In all walks of life, they have contributed their many talents and added to our Nation's development and prosperity.

We especially show our gratitude for the men and women of Caribbean descent who have served bravely in our Armed Forces and those still serving today. These heroes have answered a call greater than self, and we keep them in our thoughts and prayers.

During June, we celebrate and recognize the Caribbean Americans whose determination and hard work have helped make our country a better place.

NOW, THEREFORE, I, GEORGE W. BUSH, President of the United States of America, by virtue of the authority vested in me by the Constitution and laws of the United States, do hereby proclaim June 2008 as Caribbean-American Heritage Month. I encourage all Americans to learn more about the history and culture of Caribbean Americans and their contributions to our Nation.

IN WITNESS WHEREOF, I have hereunto set my hand this twenty-ninth day of May, in the year of our Lord two thousand eight, and of the Independence of the United States of America the two hundred and thirty-second.

[FR Doc. 08-1319

Filed 6-2-08; 10:13 am]

Billing code 3195-01-P